DEPARTMENT OF TRANSPORTATION

Federal Transit Administration

Notice of Intent To Prepare an Environmental Impact Statement for the Clifton Corridor Transit Initiative in DeKalb and Fulton Counties, Georgia

AGENCY: Federal Transit Administration (FTA), (DOT).

ACTION: Notice of Intent (NOI) To prepare an environmental impact statement (EIS) and section 4(f) evaluation.

SUMMARY: The Federal Transit Administration (FTA) and the Metropolitan Atlanta Rapid Transit Authority (MARTA) issue this Notice of Intent (NOI) to prepare an Environmental Impact Statement (EIS) and an evaluation per 49 U.S.C. 303 and 23 CFR 774 (“Section 4(f)”) for a new Light Rail Transit (LRT) line in DeKalb and Fulton Counties, Georgia. The proposed LRT line would extend from Lindbergh MARTA station in the city of Atlanta, Fulton County, Georgia, southeast through the Centers for Disease Control (CDC) headquarters and Emory University and Emory Hospital campuses, to Avondale MARTA station in the City of Decatur, DeKalb County, Georgia. The EIS and Section 4(f) Evaluation will be prepared in accordance with regulations implementing the National Environmental Policy Act (NEPA), Section 4(f), as well as FTA's regulations and guidance implementing NEPA (40 CFR parts 1500 through 1508 and 23 CFR 771.105).

The purpose of this NOI is to: (1) Advise the public and agencies that FTA is preparing an EIS for the proposed project; (2) provide project information including previous planning studies and decisions, the project purpose and need, and alternatives being considered; and, (3) invite public and agency participation in the EIS process, which includes a review and written comments on the scope of the EIS.

DATES: Scoping Meeting Dates: Public scoping meetings will be held from 6:00 p.m. to 8:00 p.m. Eastern Time on December 4 and 9, 2014 at locations within the study area. The scoping meeting locations are accessible by transit and to persons with disabilities. Confirmed times and locations will also be published in local notices and on the project Web site at http://www.itsmarta.com/Clifton-Corr.aspx.

The dates, times, and locations of scoping meetings are:

• Scoping Meeting 1: Thursday, December 4, 2014 at the Westminster Presbyterian Church located at 1438 Sheridan Rd. NE., Atlanta, GA 30324. The meeting will be held from 6:00 p.m.-8:00 p.m. Directional signage will be posted outside of the building and on the building's interior to inform participants of the meeting room number and location.

• Scoping Meeting 2: Tuesday, December 9, 2014 at the Emory University Student Activity and Academic Center (SAAC), Room 316, located at 1946 Starvine Way, Decatur, GA 30033. The meeting will be held from 6:00 p.m.-8:00 p.m. Directional signage will be posted outside of the building and on the building's interior to inform participants of the meeting room number and location.

All meeting locations are considered private property. With the exception of on-duty law enforcement and/or security officials, weapons will not be allowed on the premises of any meeting location under any circumstances. The meeting locations are accessible to persons with disabilities. If there are questions concerning weapons policies for scoping meeting locations or if translation, signing services, or other special accommodations are needed, please contact MARTA's Office of External Affairs, Toni Thornton at tthornton@itsmarta.com or 404-848-5423 at least one week before the scoping meetings. Comment Due Date: Written comments on the scope of the EIS should be sent to Tameka Wimberly, AICP, MARTA Project Manager, by January 9, 2015. The address information for written comments and times and locations for all meetings are listed under FOR FURTHER INFORMATION CONTACT below.

FOR FURTHER INFORMATION: Written Comments: Written or electronic mail (email) comments should be sent to Tameka Wimberly, Project Manager, MARTA, 2424 Piedmont Road NE., Atlanta, GA 30324-3330 or by email to twimberly@itsmarta.com. If submitting an email comment, please type “Scoping Meeting Comment for MARTA” in the subject line of the email. MARTA maintains a Facebook page for the Clifton Corridor project and will notify Facebook followers, in conjunction with publication of this notice, to submit comments to the aforementioned email address as well.

FOR FURTHER INFORMATION CONTACT: Mr. Stan Mitchell, Environmental Protection Specialist, FTA Region IV, 230 Peachtree Street NW., Suite 800, Atlanta, GA 30303 or email: stanley.a.mitchell@dot.gov, telephone 404-865-5643.

SUPPLEMENTARY INFORMATION:

I. Scoping

FTA and MARTA will undertake a scoping process that will allow the public and interested agencies to comment on the scope of the environmental review process. Scoping is the process of determining the scope, focus, and content of an EIS. NEPA scoping has specific objectives, identifying issues that will be examined in detail during the EIS, while at the same time limiting consideration and development of issues that are not truly significant to the purpose and need for the project. FTA and MARTA invite all interested individuals, members of the public, Native American tribes, and Federal, State, and local agencies to review and comment on the scope of the Draft EIS. To facilitate public and agency comment, a Scoping Information Packet will be prepared for review and will be available before each scoping meeting and for handout at each scoping meeting. This packet will include draft descriptions of the project purpose and need for the project, the alternatives considered, impacts to be assessed, early alternatives that are currently not being considered, and the public outreach and agency coordination process.

II. Study Area Description

The project study area is located in both DeKalb and Fulton Counties, Georgia, including a small portion of the city of Atlanta. The project study area extends approximately 8.8 miles from Lindbergh MARTA station southeastward through central DeKalb County to Avondale MARTA station and encompassing the CDC and Emory University and Emory Hospital campuses.

III. Purpose and Need for the Proposed Project

FTA and MARTA invite comments on the following preliminary statement of the project's purpose and need:

The purpose of the Clifton Corridor Project is to provide reliable, high-capacity transit service with competitive travel times to, from, and within the Clifton Corridor, which is home to Emory University and the Centers for Disease Control and Prevention (CDC). The CDC is the largest employment center not served by the MARTA rail system or other high-capacity mode of transportation. Currently, significant volumes of trips are made through the Clifton Corridor as well as on connecting roadways; therefore, high-capacity transit service would help accommodate the high trip volumes within an already constrained roadway network. Consequently, a high-capacity transit service would also help enhance and support land use initiatives that help foster economic development and neighborhood revitalization.

The following needs for the proposed project stem from existing conditions and deficiencies in the project study area:

(1) Need to provide a high-capacity transit service for the under-served yet growing employment center and population in the Clifton Corridor study area.

(2) Need to provide an alternative transportation mode to vehicular travel that provides reliable and competitive travel times.

(3) Need for fixed-guideway transit service that provides regional connectivity.

(4) Need to provide a transit service that improves mobility of residents and employees in the Clifton Corridor.

(5) Need to provide a transportation mode that helps reduce vehicle miles traveled (VMT) and related vehicular emissions.

(6) Need to provide a transportation alternative that helps spur economic development and maximizes land use densities.

(7) Need to provide a transportation mode that enables the evacuation of Federal employees and local area residents during an emergency at the CDC facilities.

V. Alternatives Analysis and Results

In 2009, MARTA and Clifton Corridor Transportation Management Association (CCTMA) partnered to conduct the Clifton Corridor Transit Initiative—Alternatives Analysis (AA) study. The AA study process identified ways to enhance transportation choices, improve transit services and access to job and activity centers for the commuters and residents in the Clifton Corridor. MARTA and the study partners examined a broad range of alternatives for fixed-guideway transit investments that would connect Lindbergh City Center (Lindbergh MARTA station) with employment and activity centers along Clifton Road and the city of Decatur. Over the course of the AA study, the set of potentially viable alternatives was reduced through a multilayered screening methodology that eventually established the technical basis for the selection of the locally preferred alternative (LPA) for the Clifton Corridor project. The AA process also documented public and agency support and endorsement for the LPA.

The AA study process resulted in the selection of a new LRT alignment from Lindbergh MARTA station through central DeKalb County to Avondale MARTA station. The MARTA Board of Directors adopted the LRT transit concept as the LPA for the Clifton Corridor on April 9, 2012. The LRT alternative received the strongest public support throughout the study process due to its ability to better integrate into the topography and the existing communities within the Clifton Corridor. The results of the AA study are available at http://www.itsmarta.com/clifton-corr-documents.aspx, under “Locally Preferred Alternative Report.”

VI. EIS Alternatives Considered

Based on previous planning work and studies and previous feedback received from the public and stakeholders regarding the Clifton Corridor, the following proposed alternatives, along with a brief description for each, will be evaluated during the EIS:

No-Build Alternative: The No-Build Alternative includes all transportation improvement projects within the Clifton Corridor project area that are programmed in the Atlanta Regional Commission's Regional Transportation Plan (RTP) with the exception of the Clifton Corridor LRT project. The No-Build Alternative serves as a comparison baseline for the project build alternatives.

Build Alternative 1: Build Alternative 1 is a new LRT line that was previously referred to as the LPA following the 2009 AA study and includes segments that are at-grade, tunnel, and on aerial structure. From Lindbergh MARTA station, the alignment for Build Alternative 1 would parallel the existing MARTA heavy rail transit (HRT) line to the CSX railroad corridor, then continues eastward adjacent to the CSX railroad right-of-way, then along Clifton Road, adjacent to and under the CSX railroad corridor and Clairmont Road. The alignment would then proceed along Scott Boulevard, North Decatur Road, DeKalb Industrial Way, and North Arcadia Avenue to Avondale MARTA station.

Build Alternative 2: Build Alternative 2 is a new LRT line that includes at-grade and aerial segments only. From Lindbergh MARTA station, the alignment would parallel the existing MARTA HRT line to the CSX railroad corridor, then continues adjacent to the CSX railroad right-of-way and then along Clifton Road, N. Decatur Road, DeKalb Industrial Way, and North Arcadia Avenue and finally on to Avondale MARTA station.

VII. Potential Effects

FTA and MARTA will evaluate project-specific direct, indirect, and cumulative effects, including benefits, to the existing human and natural environmental setting in which the Build Alternatives could be located. The permanent or long-term effects to be investigated during this study include effects to public parks and recreation lands (Section 4(f) Evaluation), traffic and transportation, land use and socioeconomic, visual character and aesthetics, noise and vibration, historical and archaeological resources, community effects, and natural resources. Temporary effects during construction may include effects to transportation and traffic, air quality, water quality, noise and vibration, natural resources and encounters with hazardous materials and contaminated soils.

The analysis will be undertaken in conformity with Federal environmental laws, regulations, and executive orders applicable to the proposed project during the environmental review process to the maximum extent practicable. These requirements include but are not limited to NEPA, Council on Environmental Quality (CEQ) regulations, FTA guidance and relevant environmental planning guidelines, Section 106 of the National Historic Preservation Act (NHPA), Section 4(f) of the Department of Transportation Act, Executive Order 12898 regarding minority and low-income populations, Executive Order 11990 regarding the protection of wetlands, the Clean Water Act, the Endangered Species Act of 1973, and the Clean Air Act of 1970 along with other applicable Federal, state, and local laws and regulations. Opportunities for review and comment on the potential effects will be provided to the public and agencies. Comments received will be considered in the development of the final scope and content of the EIS. The final scope and content of the EIS will be documented in the Scoping Summary Report and the Annotated Outline for the EIS.

VIII. FTA's Public and Agency Involvement Procedures

The regulations implementing NEPA and FTA guidance call for public involvement in the EIS process. In accordance with these regulations and guidance, FTA and MARTA will: (1) Extend an invitation to other Federal and non-Federal (state and/or local) agencies and Native American Tribes that may have an interest in the proposed project to become participating agencies (any interested agency that does not receive an invitation can notify any of the contact persons listed earlier in this NOI); (2) provide opportunity for involvement by participating agencies and the public to help define the purpose and need for the proposed project, as well as the range of alternatives for consideration in the EIS; and (3) establish a plan for coordinating public and agency participation in, and comment on, the environmental review process.

Input on a Public Involvement Plan will be solicited at the scoping meeting and on the project Web site. The documents will outline public and agency involvement for the project. Once completed, these documents will be available on the project Web site or through written request to the MARTA Project Manager.

IX. Paperwork Reduction Act

The Paperwork Reduction Act seeks, in part, to minimize the cost of the taxpayer of the creation, collection, maintenance, use, dissemination, and disposition of information. Consistent with this goal and with the principles of economy and efficiency in government, it is FTA's policy to limit, insofar as possible, distribution of complete printed sets of NEPA documents. Accordingly, unless a specific request for a complete printed set is received before the document is printed, FTA and its grant applicants (including MARTA) will only distribute electronic copies of the NEPA document. A complete printed set of the environmental documents produced for this project will be available for review at the grant applicant's office (MARTA Headquarters office listed in ADDRESSES above) and in other possible locations within the project corridor. An electronic copy of the complete environmental documents will be available on the grant applicant's project Web site at http://www.itsmarta.com/Clifton-Corr.aspx.

X. Summary and next steps?

With the publication of this NOI, the scoping process and the public comment period for the project begins allowing the public to offer input on the scope of the EIS until January 9, 2015. In accordance with the Federal regulations, this date is at least 45 days following the publication of this NOI. Public comments will be received through those methods explained earlier in this NOI and will be incorporated into a Scoping Summary Report. The Scoping Summary Report will detail the scope of the EIS and the potential environmental effects that will be considered during the study period. After the completion of the Draft EIS, a public and agency review period will allow for input on the Draft EIS and these comments will be incorporated into the Final EIS for this project. In accordance with Section 1319 of the Moving Ahead for Progress in the 21st Century Act (MAP-21), Accelerated Decision-making in Environmental Reviews, FTA may consider the use of errata sheets attached to the DEIS in place of a traditional Final EIS and/or development a single environmental decision document that consists of a Final EIS and a Record of Decision (ROD), if certain conditions exist following the conclusion of the public and agency review period for the project's Draft EIS.

Yvette G. Taylor,
Regional Administrator, FTA Region IV.

[FR Doc. 2014-24923 Filed 10-20-14; 8:45 am]

BILLING CODE P